DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:

June 11, 2014, 9:00 a.m.-5:30 p.m. EDT

June 12, 2014, 8:00 a.m.-12:00 p.m. EDT

Place: U.S. Department of Health and Human Services, Hubert H. Humphrey Building, 200 Independence Avenue SW., Room 705-A, Washington, DC 20024, (20) 690-7100.

Status: Open.

Purpose

The purpose of this meeting is to review NCVHS Status of Activities, continue to plan for 2014 objectives and deliverables, and review and approve at least one action item: The Eleventh HIPAA Report to Congress. The Committee will also review the deliberative process for the letters submitted for action at the May 15th Conference call—Electronic Standards for Public Health Information Exchange; Findings from the February 2014 hearing; and the ICD 10 delay, and take any follow-up action needed. The Committee will receive a briefing on Data Segmentation initiatives and also an update from the recently conducted June 2014 DataPalooza. Finally, the Working Group on HHS Data Access and Use will continue strategic discussions on usability, use, and usefulness of HHS open data.

The times shown above are for the full Committee meeting. Subcommittee issues will be included as part of the Full Committee schedule and identified as “blocks” on the afternoon of the first day and morning the second day. Agendas for these block sessions will be developed later and posted on the NCVHS Web site (URL below) when available.

Contact Person for More Information: Substantive program information may be obtained from Debbie M. Jackson, Acting Executive Secretary, NCVHS, National Center for Health Statistics, Centers for Disease Control and Prevention, 3311 Toledo Road, Room 2339, Hyattsville, Maryland 20782, telephone (301) 458-4614. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: May 13, 2014.
James Scanlon,
Deputy Assistant Secretary for Science and Data Policy, Office of the Assistant Secretary for Planning and Evaluation.

[FR Doc. 2014-11935 Filed 5-22-14; 8:45 am]

BILLING CODE 4151-05-P